OFFICE OF THE UNITED STATES TRADE REPRESENTATIVE

Notice of Correction to General Notes 11(a) and 11(d) of the Harmonized Tariff Schedule of the United States

AGENCY: Office of the United States Trade Representative.

ACTION: Notice.

SUMMARY: This notice makes a rectification to the Harmonized Tariff Schedule of the United States (HTS) to reflect that Peru remains a designated beneficiary country for purposes of the Andean Trade Preference Act and the Andean Trade Promotion and Drug Eradication Act.

DATES: Effective February 1, 2009.

FOR FURTHER INFORMATION CONTACT: María L. Pagán, Associate General Counsel, Office of the United States Trade Representative, (202) 395-7305.

SUPPLEMENTARY INFORMATION: In Proclamation 8341 (January 16, 2009) (74 FR 4105), the President proclaimed certain changes to the HTS in order to implement the United States-Peru Trade Promotion Agreement and for other purposes. Annex I of Publication 4058 of the United States International Trade Commission, incorporated by reference into Proclamation 8341, incorrectly deleted Peru from the enumeration of designated beneficiary countries in General Notes 11(a) and 11(d) of the HTS.

In Proclamation 6969 (January 27, 1997) (62 FR 4415), the President delegated to the United States Trade Representative (USTR) the authority under section 604 of the Trade Act of 1974 (19 U.S.C. 2483) to make rectifications, technical or conforming changes, or similar modifications to the HTS and to embody those changes in the HTS. Pursuant to the authority delegated to the USTR in Proclamation 6969, General Notes 11(a) and 11(d) of the HTS are rectified by inserting ``Peru'' in alphabetical sequence in the list of designated beneficiary countries.

Everett H. Eissenstat,
Assistant U.S. Trade Representative for the Americas.

[FR Doc. E9-2637 Filed 2-4-09; 4:15 pm]

BILLING CODE 3190-W9-P